DEPARTMENT OF THE INTERIOR

Bureau of Land Management

[LLAZG03000.L16100000.DQ0000. LXSS085A0000.241A.00]

Notice of Availability of the Ironwood Forest National Monument Record of Decision and Approved Resource Management Plan, Arizona

AGENCY: Bureau of Land Management, Interior.

ACTION: Notice of availability.

SUMMARY: In accordance with the National Environmental Policy Act of 1969, as amended, and the Federal Land Policy and Management Act of 1976, as amended, the Bureau of Land Management (BLM) announces the availability of the Record of Decision (ROD)/Approved Resource Management Plan (RMP) for the Ironwood Forest National Monument (IFNM), located in portions of Pima and Pinal counties, northwest of Tucson, Arizona. The IFNM was established by Presidential Proclamation on June 9, 2000, for the protection of the significant cultural, biological, geological, and natural resources. These resources were identified as Monument objects in the Proclamation. The Arizona State Director signed the ROD on February 19, 2013, which constitutes the final decision of the BLM and makes the Approved RMP effective immediately.

ADDRESSES: Copies in electronic format on compact disk of the ROD/Approved RMP are available in the Tucson Field Office, Bureau of Land Management, 3201 East Universal Way, Tucson, AZ 85756. It is also accessible on the Internet at http://www.blm.gov/az/st/en/prog/planning/ironwood.html. Printed copies of the ROD/Approved RMP are available for public inspection at the BLM Tucson Field Office.

FOR FURTHER INFORMATION CONTACT: Brian Bellew, Tucson Field Manager, telephone: 520-258-7235; address: 3201 East Universal Way, Tucson, AZ 85756; or email: AZ_IFNM_RMP@blm.gov. Persons who use a telecommunications device for the deaf (TDD) can call the Federal Information Relay Service (FIRS) at 1-800-877-8339 to contact the above individual during normal business hours. The FIRS is available 24 hours a day, 7 days a week, to leave a message or question with the above individual. You will receive a reply during normal business hours.

SUPPLEMENTARY INFORMATION: Through communication media such as meetings, newsletters, planning bulletins, and news releases, the public was provided opportunities to identify issues that needed to be addressed and to participate in the development of plan alternatives. The public provided comments during the 90-day public comment period on the Draft RMP/Draft Environmental Impact Statement (EIS) published on March 2, 2007 (72 FR 9576); these were addressed in the Proposed RMP/Final EIS published on September 23, 2011 (76 FR 59156).

The Proposed RMP/Final EIS was developed with input and cooperation with the following: Arizona Game and Fish Department, Ak Chin Indian Community, Gila River Indian Community, Tohono O'odham Nation, Salt River Pima-Maricopa Indian Community, Pascua Yaqui Tribe, Pima and Pinal counties, Natural Resources Conservation Service, U.S. Fish and Wildlife Service, Arizona State Historic Preservation Office, Arizona State Land Department, and Pima Natural Resource Conservation District.

The IFNM encompasses approximately 128,400 acres of Federal land administered by the BLM; approximately 54,700 acres of State Trust Land inholdings administered by the Arizona State Land Department; approximately 6,000 acres of private land inholdings, 641 acres of Pima County inholdings, and 326 acres of military withdrawal lands. The ROD/Approved RMP applies only to Federal lands and interests located within the established boundary of the IFNM. The BLM's Gila District Tucson Field Office has the responsibility of planning for and management of Federal lands within the IFNM.

The Approved RMP is the same as Alternative C in the Proposed RMP, with minor modifications made in preparing the Approved RMP. The BLM received eight protest letters on the Proposed RMP/Final EIS. The BLM Director denied all protest issues. The Director's Protest Resolution Report can be accessed at the following Web site: http://www.blm.gov/wo/st/en/prog/planning/planning_overview/protest_resolution/protestreports.html.

Key decisions in the ROD/Approved RMP include:

1. Off-highway vehicle use designations are established, limiting all motorized vehicle use to designated routes on approximately 117,520 acres and closing 10,880 acres to all motorized vehicle use. Guidance for management of the Monument access route network is provided, and a transportation plan with route-specific management objectives will be developed within 6 months of the effective date of the ROD/Approved RMP. Travel route designations include 124 miles of roads and primitive roads to provide motorized access and travel; 118 miles of routes to accommodate administrative use of motorized vehicles and public use for non-motorized and non-motorized mechanized travel; and 90 miles of routes to accommodate non-motorized non-mechanized travel for administrative and public use. Seventeen (17) miles of routes will be closed and restored.

2. Monument lands are closed to recreational target shooting. State Trust Land inholdings are already off limits to recreational target shooting. This change will help bring consistency in the way both Federal and State lands are managed and help reduce confusion for the public. Hunting will continue to be allowed in accordance with Arizona hunting laws and regulations.

The BLM determined that the IFNM ROD/Approved RMP provides a framework for long-term protection of Monument objects while allowing authorized uses, recreation activities, and scientific studies that are consistent with the protection of the objects of the Monument.

The Arizona Governor's Office did not identify any inconsistencies between the Proposed RMP/Final EIS and State or local plans, policies, and programs during the Governor's Consistency Review.

The ROD/Approved RMP for the IFNM contains implementation level decisions that identify travel route designations for roads, primitive roads, administrative roads and trails, and route closures for restoration, with specific management designations which are described in Appendix D of the ROD/Approved RMP. These implementation decisions establish the route network for motorized and non-motorized access for administrative purposes and public use within the IFNM.

Any party adversely affected by these implementation level decisions may file an appeal within 30 days of publication of this Notice of Availability pursuant to 43 CFR part 4, subpart E. The appeal should state the specific route(s), as identified in Appendix D of the ROD/Approved RMP, on which the decision is being appealed and describe the reasons for the appeal. The appeal must be filed with the Tucson Field Manager at the above address. Please consult the appropriate regulations for further appeal requirements.

Authority: 40 CFR 1502.2 and 43 CFR 1610.5.

Deborah K. Rawhouser,
Acting Arizona State Director.

[FR Doc. 2013-04259 Filed 2-22-13; 8:45 am]

BILLING CODE 4310-32-P